DEPARTMENT OF TRANSPORTATION

Surface Transportation Board

[STB Docket No. AB-295 (Sub-No. 5X)]

The Indiana Rail Road Company—Abandonment and Discontinuance of Trackage Rights Exemption—in Monroe County, IN

The Indiana Rail Road Company (INRD) filed with the Surface Transportation Board (Board) a petition under 49 U.S.C. 10502 for exemption from the provisions of 49 U.S.C. 10903 to abandon a 0.97-mile line of railroad, known as the Bloomington Southern, extending from milepost B 1.71 south to milepost B 2.68 in Bloomington, IN, and to discontinue trackage rights over approximately 2.87 miles of a CSX Transportation, Inc. (CSXT) line in Bloomington, extending from CSXT milepost 219.0 to CSXT milepost 221.87, and over approximately 150 feet of CSXT's track no. 68 and approximately 285 feet of CSXT's track no. 21 in CSXT's McDoel Yard in Bloomington, in Monroe County, IN.¹ The line traverses U.S. Postal Service Zip Codes 47403 and 47404 and includes no stations.

¹ In a proceeding filed on July 1, 2003, CSXT seeks an exemption under 49 U.S.C. 10502 from the provisions of 49 U.S.C. 10903 to abandon a 2.95-mile line of railroad in CSXT's Western Region, Great Lakes Division, over which INRD's trackage rights run. In its petition, CSXT describes the line as extending from milepost 00Q-219.55 to milepost 00Q-222.50 in Bloomington, Monroe County, IN. See CSX Transportation, Inc.—Abandonment Exemption—in Monroe County, IN, STB Docket No. AB-55 (Sub-No. 634X) (STB served and published on July 21, 2003) (68 FR 43255).

The line does not contain federally granted rights-of-way. Any documentation in INRD's possession will be made available promptly to those requesting it.

The interest of railroad employees will be protected by Oregon Short Line R. Co.—Abandonment—Goshen, 360 I.C.C. 91 (1979).

By issuance of this notice, the Board is instituting an exemption proceeding pursuant to 49 U.S.C. 10502(b). A final decision will be issued by October 31, 2003.

Any offer of financial assistance (OFA) under 49 CFR 1152.27(b)(2) will be due no later than 10 days after service of a decision granting the petition for exemption. Each OFA must be accompanied by the filing fee, which currently is set at $1,100. See 49 CFR 1002.2(f)(25).

All interested persons should be aware that, following abandonment of rail service and salvage of the line, the line may be suitable for other public use, including interim trail use. Any request for a public use condition under 49 CFR 1152.28 or for trail use/rail banking under 49 CFR 1152.29 will be due no later than August 21, 2003. Each trail use request must be accompanied by a $150 filing fee. See 49 CFR 1002.2(f)(27).

All filings in response to this notice must refer to STB Docket No. AB-295 (Sub-No. 5X) and must be sent to: (1) Surface Transportation Board, 1925 K Street, NW, Washington, DC 20423-0001; and (2) John H. Broadley, John H. Broadley & Associates, P.C., 1054 31st Street, NW, Suite 200, Washington, DC 20007. Replies to the INRD petition are due on or before August 21, 2003.

Persons seeking further information concerning abandonment and discontinuance procedures may contact the Board's Office of Public Services at (202) 565-1592 or refer to the full abandonment or discontinuance regulations at 49 CFR part 1152. Questions concerning environmental issues may be directed to the Board's Section of Environmental Analysis (SEA) at (202) 565-1539. (Assistance for the hearing impaired is available through the Federal Information Relay Service (FIRS) at 1-800-877-8339.)

An environmental assessment (EA) (or environmental impact statement (EIS), if necessary) prepared by SEA will be served upon all parties of record and upon any agencies or other persons who commented during its preparation. Other interested persons may contact SEA to obtain a copy of the EA (or EIS). EAs in these abandonment proceedings normally will be made available within 60 days of the filing of the petition. The deadline for submission of comments on the EA will generally be within 30 days of its service.

Board decisions and notices are available on our Web site at: http://www.stb.dot.gov.

Decided: July 24, 2003.
By the Board, David M. Konschnik, Director, Office of Proceedings.
Vernon A. Williams,
Secretary.

[FR Doc. 03-19495 Filed 7-31-03; 8:45 am]

BILLING CODE 4915-00-P